COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: March 31, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

5350-00-187-6272—Cloth, Abrasive, Aluminum-oxide, 100 Grit, Jean Back, Grey, 50 Yard, 1″, BX/10

5350-00-187-6283—Cloth, Abrasive, Aluminum-oxide, 100 Grit, Jean Back, Grey, 50 Yard, 1½″, BX/10

5350-00-187-6281—Cloth, Abrasive, Aluminum-oxide, 150 Grit, Jean Back, Grey, 50 Yard, 1½″, BX/10

5350-00-229-3080—Cloth, Abrasive, Aluminum-oxide, 240 Grit, Jean Back, Grey, 50 Yard, 3″, BX/10

5350-00-229-3094—Cloth, Abrasive, Aluminum-oxide, 150 Grit, Jean Back, Grey, 50 Yard, 3″

Authorized Source of Supply: Louisiana Association for the Blind, Shreveport, LA

Contracting Activity: GSA/FSS GREATER SOUTHWEST ACQUISITI, FORT WORTH, TX

NSN(s)—Product Name(s):

8410-01-456-5800—Slacks, Dress, Navy, Women's, Blue, 18JR

8410-01-456-5766—Slacks, Dress, Navy, Women's, Blue, 22WT

8410-01-456-5769—Slacks, Dress, Navy, Women's, Blue, 24JP

8410-01-456-5780—Slacks, Dress, Navy, Women's, Blue, 18JP

8410-01-456-5771—Slacks, Dress, Navy, Women's, Blue, 24JR

8410-01-456-5774—Slacks, Dress, Navy, Women's, Blue, 24P

8410-01-456-5784—Slacks, Dress, Navy, Women's, Blue, 24WR

8410-01-456-5786—Slacks, Dress, Navy, Women's, Blue, 24WT

8410-01-456-5790—Slacks, Dress, Navy, Women's, Blue, 26JP

8410-01-456-5794—Slacks, Dress, Navy, Women's, Blue, 26JR

8410-01-456-5803—Slacks, Dress, Navy, Women's, Blue, 18WT

8410-01-456-5806—Slacks, Dress, Navy, Women's, Blue, 20JP

8410-01-456-5808—Slacks, Dress, Navy, Women's, Blue, 20JR

8410-01-456-5809—Slacks, Dress, Navy, Women's, Blue, 20P

8410-01-456-5812—Slacks, Dress, Navy, Women's, Blue, 20WT

8410-01-456-5814—Slacks, Dress, Navy, Women's, Blue, 22JP

8410-01-456-5815—Slacks, Dress, Navy, Women's, Blue, 22JR

8410-01-456-5817—Slacks, Dress, Navy, Women's, Blue, 22P

8410-01-456-5820—Slacks, Dress, Navy, Women's, Blue, 22R

8410-01-456-6281—Slacks, Dress, Navy, Women's, Blue, 26MP

8410-01-456-6286—Slacks, Dress, Navy, Women's, Blue, 26R

8410-01-456-6290—Slacks, Dress, Navy, Women's, Blue, 26MT

8410-01-456-6292—Slacks, Dress, Navy, Women's, Blue, 26WR

8410-01-456-6295—Slacks, Dress, Navy, Women's, Blue, 26WT

8410-01-456-6302—Slacks, Dress, Navy, Women's, Blue, 22MT

8410-00-0SL-K608—Slacks, Dress, Navy, Women's, Blue, Special Measurement

8410-01-373-4404—Slacks, Commissioned and Enlisted, Navy, Women's, Blue, 4P

8410-01-373-4405—Slacks, Commissioned and Enlisted, Navy, Women's, Blue, 6MP

8410-01-373-4406—Slacks, Commissioned and Enlisted, Navy, Women's, Blue, 6WP

8410-01-373-4407—Slacks, Commissioned and Enlisted, Navy, Women's, Blue, 6WR

8410-01-373-4408—Slacks, Commissioned and Enlisted, Navy, Women's, Blue, 8P

8410-01-373-4409—Slacks, Commissioned and Enlisted, Navy, Women's, Blue, 8MT

8410-01-373-4410—Slacks, Commissioned and Enlisted, Navy, Women's, Blue, 8WP

8410-01-373-4411—Slacks, Commissioned and Enlisted, Navy, Women's, Blue, 8WR

8410-01-375-4827—Slacks, Commissioned and Enlisted, Navy, Women's, Blue, 10WT

8410-01-375-4828—Slacks, Commissioned and Enlisted, Navy, Women's, Blue, 12JP

8410-01-375-4829—Slacks, Commissioned and Enlisted, Navy, Women's, Blue, 12JR

8410-01-375-4830—Slacks, Commissioned and Enlisted, Navy, Women's, Blue, 12P

8410-01-375-4831—Slacks, Commissioned and Enlisted, Navy, Women's, Blue, 12T

8410-01-375-4832—Slacks, Commissioned and Enlisted, Navy, Women's, Blue, 12WP

8410-01-375-4833—Slacks, Commissioned and Enlisted, Navy, Women's, Blue, 12WR

8410-01-375-4834—Slacks, Commissioned and Enlisted, Navy, Women's, Blue, 12WT

8410-01-375-4835—Slacks, Commissioned and Enlisted, Navy, Women's, Blue, 14JP

8410-01-375-4836—Slacks, Commissioned and Enlisted, Navy, Women's, Blue, 14JR

8410-01-375-4837—Slacks, Commissioned and Enlisted, Navy, Women's, Blue, 14JT

8410-01-375-4838—Slacks, Commissioned and Enlisted, Navy, Women's, Blue, 14P

8410-01-375-4839—Slacks, Commissioned and Enlisted, Navy, Women's, Blue, 14T

8410-01-375-4840—Slacks, Commissioned and Enlisted, Navy, Women's, Blue, 14WP

8410-01-375-4841—Slacks, Commissioned and Enlisted, Navy, Women's, Blue, 14WR

8410-01-375-4842—Slacks, Commissioned and Enlisted, Navy, Women's, Blue, 14WT

8410-01-375-4843—Slacks, Commissioned and Enlisted, Navy, Women's, Blue, 16JP

8410-01-375-4844—Slacks, Commissioned and Enlisted, Navy, Women's, Blue, 16JR

8410-01-375-4845—Slacks, Commissioned and Enlisted, Navy, Women's, Blue, 16P

8410-01-375-4846—Slacks, Commissioned and Enlisted, Navy, Women's, Blue, 16T

8410-01-375-4847—Slacks, Commissioned and Enlisted, Navy, Women's, Blue, 16WR

8410-01-375-4848—Slacks, Commissioned and Enlisted, Navy, Women's, Blue, 16WT

8410-01-375-4849—Slacks, Commissioned and Enlisted, Navy, Women's, Blue, 18P

8410-01-375-4850—Slacks, Commissioned and Enlisted, Navy, Women's, Blue, 18T

8410-01-375-4851—Slacks, Commissioned and Enlisted, Navy, Women's, Blue, 18WR

8410-01-375-4852—Slacks, Commissioned and Enlisted, Navy, Women's, Blue, 4R

8410-01-375-4853—Slacks, Commissioned and Enlisted, Navy, Women's, Blue, 6MR

8410-01-375-4854—Slacks, Commissioned and Enlisted, Navy, Women's, Blue, 8MR

8410-01-375-4855—Slacks, Commissioned and Enlisted, Navy, Women's, Blue, 10R

8410-01-375-4856—Slacks, Commissioned and Enlisted, Navy, Women's, Blue, 12R

8410-01-375-4857—Slacks, Commissioned and Enlisted, Navy, Women's, Blue, 14R

8410-01-375-4858—Slacks, Commissioned and Enlisted, Navy, Women's, Blue, 16R

8410-01-375-4859—Slacks, Commissioned and Enlisted, Navy, Women's, Blue, 18R

8410-01-375-4860—Slacks, Commissioned and Enlisted, Navy, Women's, Blue, 20MR

8410-01-377-9378—Slacks, Commissioned and Enlisted, Navy, Women's, Blue, 10WR

8410-01-377-9434—Slacks, Commissioned and Enlisted, Navy, Women's, Blue, 10JR

8410-01-377-9508—Slacks, Commissioned and Enlisted, Navy, Women's, Blue, 10T

8410-01-377-9717—Slacks, Commissioned and Enlisted, Navy, Women's, Blue, 10WP

8410-01-377-9737—Slacks, Commissioned and Enlisted, Navy, Women's, Blue, 10JP

8410-01-377-9791—Slacks, Commissioned and Enlisted, Navy, Women's, Blue, 10JT

8410-01-377-9799—Slacks, Commissioned and Enlisted, Navy, Women's, Blue, 10P

8410-01-456-5779—Slacks, Dress, Navy, Women's, Blue, 24 Misses Regular

8410-01-456-5781—Slacks, Dress, Navy, Women's, Blue, 24 Misses Tall

8410-01-456-5810—Slacks, Dress, Navy, Women's, Blue, 20 Misses Tall

8410-01-456-5811—Slacks, Dress, Navy, Women's, Blue, 20 Women's Regular

8410-01-456-6306—Slacks, Dress, Navy, Women's, Blue, 22 Women's Regular

Contracting Activity: DLA TROOP SUPPORT, PHILADELPHIA, PA

NSN(s)—Product Name(s):

7210-00-259-9006—Pillowcase, Cotton/Polyester, White, 20½″ x 32½″

Authorized Source of Supply: The Lighthouse for the Blind in New Orleans, Inc., New Orleans, LA

Contracting Activity: GSA/FSS GREATER SOUTHWEST ACQUISITI, FORT WORTH, TX

Service(s)

Service Type: Furniture Design and Configuration Services

Mandatory for: Rhode Island National Guard, 30 Camp Street, Providence, RI

Authorized Source of Supply: Industries for the Blind and Visually Impaired, Inc., West Allis, WI

Contracting Activity: DEPT OF THE ARMY, W7NY USPFO ACTIVITY RI ARNG

Dated: February 23, 2024.
Michael R. Jurkowski,
Acting Director, Business Operations.

[FR Doc. 2024-04360 Filed 2-29-24; 8:45 am]

BILLING CODE 6353-01-P